DEPARTMENT OF TRANSPORTATION

Federal Highway Administration

[Docket No. FHWA-2024-0079]

Agency Information Collection Activities: Notice of Request for Reinstatement of a Previously Approved Information Collection

AGENCY: Federal Highway Administration (FHWA), DOT.

ACTION: Notice of request for reinstatement of a previously approved information collection.

SUMMARY: The FHWA invites public comments about our intention to request the Office of Management and Budget's (OMB) approval for reinstatement of an existing information collection that is summarized below under SUPPLEMENTARY INFORMATION. We are required to publish this notice in the Federal Register by the Paperwork Reduction Act of 1995.

DATES: Please submit comments by February 3, 2025.

ADDRESSES: You may submit comments identified by DOT Docket ID Number 0079 by any of the following methods:

Website: For access to the docket to read background documents or comments received go to the Federal eRulemaking Portal: Go to http://www.regulations.gov.

Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Tiara McCray, (202) 366-9793, or Arnold Feldman, (202) 366-2028, Office of Real Estate Services, Federal Highway Administration, Department of Transportation, 1200 New Jersey Avenue SE, Washington, DC 20590. Office hours are from 8 a.m. to 5 p.m., Monday through Friday, except Federal holidays.

SUPPLEMENTARY INFORMATION:

Title: Annual State Right-of-Way Acquisition Data.

OMB Control: 2125-0661.

Background: Moving Ahead for Progress in the 21st Century Act (MAP-21) section 1521(d) amends the Uniform Relocation Assistance and Real Property Acquisition Policies Act of 1970, section 213(b), codified in 42 U.S.C. 4633(b)(4) to require, “that each Federal agency that has programs or projects requiring the acquisition of real property or causing a displacement from real property subject to the provisions of this chapter shall provide to the lead agency an annual summary report that describes the activities conducted by the Federal agency.”

Respondents: There are 56 respondents, including 50 State Transportation Departments, the District of Columbia, the Commonwealth of Puerto Rico, the Commonwealth of the Northern Mariana Islands, Guam, the Virgin Islands and American Samoa. Each respondent will be asked to send an annual report to FHWA Office of Real Estate Services which outlines state or territory specific acquisition data.

Frequency: Annually. Every October FHWA Office of Real Estate Services will request this data.

Estimated Average Burden per Response: Approximately 5 hours per response.

Estimated Total Annual Burden Hours: Approximately 280 total hours for all 56 respondents.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; and 49 CFR 1.48.

Issued on: November 27, 2024.
Jazmyne Lewis,
Information Collection Officer.

[FR Doc. 2024-28303 Filed 12-2-24; 8:45 am]

BILLING CODE 4910-22-P